DEPARTMENT OF TRANSPORTATION

Pipeline and Hazardous Materials Safety Administration

[Docket No. PHMSA-2007-29078; Docket No. PHMSA-2009-0319]

Pipeline Safety: Request for Special Permit; Kern River Gas Transmission Company

AGENCY: Pipeline and Hazardous Materials Safety Administration (PHMSA), DOT.

ACTION: Notice.

SUMMARY: PHMSA is publishing this notice to solicit public comments on two (2) requests received from the Kern River Gas Transmission Company to renew previously issued special permits. These special permit renewal requests are seeking relief from compliance with certain requirements in the Federal pipeline safety regulations. At the conclusion of the 30-day comment period, PHMSA will review the comments received from this notice as part of its evaluation to grant or deny the special permit renewal requests.

DATES: Submit any comments regarding these special permit renewal requests by January 13, 2020.

ADDRESSES: Comments should reference the docket number for the specific special permit renewal request and may be submitted in the following ways:

• E-Gov website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit renewal request you are commenting on at the beginning of your comments. If you submit your comments by mail, please submit two (2) copies. To receive confirmation that PHMSA has received your comments, please include a self-addressed stamped postcard. Internet users may submit comments at http://www.Regulations.gov.

Note: There is a privacy statement published on http://www.Regulations.gov. Comments, including any personal information provided, are posted without changes or edits to http://www.Regulations.gov.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Ms. Kay McIver, DOT, PHMSA PHP-80, 1200 New Jersey Avenue SE, Washington, DC 20590-0001. Any commentary PHMSA receives that is not specifically designated as CBI will be placed in the public docket for this matter.

FOR FURTHER INFORMATION CONTACT:

General: Ms. Kay McIver by telephone at 202-366-0113, or by email at kay.mciver@dot.gov.

Technical: Mr. Chris Hoidal by telephone at 303-807-8833, or by email at chris.hoidal@dot.gov.

SUPPLEMENTARY INFORMATION: PHMSA has received the following two (2) special permit renewal requests:

Docket No. | Requester | Regulation(s) Affected | Nature of special permit
PHMSA-2007-29078 | Kern River Gas Transmission Company (Kern River). | 49 CFR § 192.111, 192.201, 192.505, and 192.619 | To reauthorize Kern River to continue its operation as defined in the original special permit issued on March 29, 2010, and renewed on March 29, 2015, to operate up to an alternative maximum allowable operating pressure (MAOP) based upon 80 percent of specified minimum yield strength (SMYS) in Class 1 locations, 67 percent SMYS in Class 2 locations, and 56 percent of SMYS in Class 3 locations of the pipeline system. The special permit renewal request seeks to waive compliance from certain Federal regulations found in 49 CFR § 192.111, 192.201, 192.505, and 192.619.
|  |  | The special permit conditions that were imposed would continue to remain in effect, with the exception that the special permit renewal includes a request from Kern River to modify Condition 35(b) of the special permit to allow close interval and depth of cover surveys to be conducted in the same year as inline inspection (ILI) tool assessments. Also, Kern River has requested to modify Condition 35(h) of the existing special permit to allow using ILI tool calibrations from previously excavated pipeline features with documented dimensions, externally re-coated, and cathodic protection maintained. The pipeline features would be used to confirm the accuracy of each ILI tool run. The number of required ILI tool calibrations would be defined based upon the run length of the ILI tool assessment.
|  |  | The special permit renewal request is for the Kern River Pipeline System, which begins at the discharges of the Muddy Creek and Painter compressor stations, and at the Anschutz meter station in Lincoln County, Wyoming, routed through Utah and Nevada, to the outlet side of the Daggett meter station located in San Bernardino County, California where it interconnects with the Mojave Pipeline. The Kern River Pipeline System consists of 682 miles of a 36-inch diameter mainline, 635 miles of 36-inch diameter loop lines, 10 compressor stations, 48 meter stations, six (6) receipt laterals, and seven (7) delivery laterals.
|  |  | Kern River has been allowed to operate at a MAOP of 1,333 pounds per square inch gauge (psig) on the mainline pipeline (up to 1,350 psig in compressor and meter station piping) since November 6, 2008, under the Alternative MAOP special permit.
|  |  | The Kern River Pipeline System under the special permit is in the following counties and states:
|  |  | • Lincoln and Uintah Counties, Wyoming;
|  |  | • Salt Lake, Utah, Millard, Beaver, Washington Counties, Utah;
|  |  | • Clark County, Nevada; and
|  |  | • San Bernardino County, California.
PHMSA-2009-0319 | Kern River Gas Transmission Company (Kern River). | 49 CFR 192.625(b) | To reauthorize Kern River to continue its operation as defined in the original special permit issued on March 19, 2010, and renewed on March 19, 2015, for non-odorization of a pipeline lateral. The special permit renewal request seeks to waive compliance from certain Federal regulations found in 49 CFR 192.625(b) for the continued non-odorized operation of Kern River's Centennial Lateral, a 12-inch diameter natural gas transmission pipeline. The Centennial Lateral main line tap valve is located on a corner lot near the intersection of Centennial Parkway and North 5th Street in Clark County, Nevada.
|  |  | The special permit renewal request is for a 1,083-foot segment of Kern River's Centennial Lateral, a 12-inch diameter natural gas transmission pipeline.
|  |  | The special permit conditions that were imposed would continue to remain in effect.
|  |  | The Centennial Lateral operates at a MAOP of 1,333 psig. The Centennial Lateral special permit segment is in Clark County, Nevada.

The Kern River Gas Transmission Company requests for special permit renewals and the proposed modifications to the special permit conditions are available for review and public comment in the respective dockets. We invite interested persons to review and submit comments on the special permit renewal requests in the dockets. Please include any comments on potential safety and environmental impacts that may result if the renewals of the special permits are granted.

Before issuing a decision on the special permit renewal requests, PHMSA will evaluate all comments received on or before the comment closing date. Comments received after the closing date will be evaluated, if it is possible to do so without incurring additional expense or delay. PHMSA will consider each relevant comment we receive in making our decision to grant or deny these requests.

Issued in Washington, DC, on December 10, 2019, under authority delegated in 49 CFR 1.97.
Alan K. Mayberry,
Associate Administrator for Pipeline Safety.

[FR Doc. 2019-26895 Filed 12-12-19; 8:45 am]

BILLING CODE 4910-60-P